DEPARTMENT OF ENERGY

Federal Energy Regulatory Commission

[Docket No. CP02-434-000]

ANR Pipeline Company; Notice of Availability of the Environmental Assessment for the Proposed Westleg Project

March 28, 2003.

The staff of the Federal Energy Regulatory Commission (FERC or Commission) has prepared an environmental assessment (EA) on the natural gas pipeline facilities proposed by ANR Pipeline Company (ANR) in the above-referenced docket.

The EA was prepared to satisfy the requirements of the National Environmental Policy Act. The staff concludes that approval of the proposed project (“WestLeg Project”), with appropriate mitigating measures as recommended, would not constitute a major Federal action significantly affecting the quality of the human environment. The EA evaluates alternatives to the proposal, including the no-action alternative, major route alternatives, and route variations.

The EA assesses the potential environmental effects of the construction, operation, and abandonment of facilities in Illinois and Wisconsin. The purpose of the WestLeg Project is to increase ANR's capacity to supply gas to the Madison and Janesville, Wisconsin market areas by 220,000 dekatherms per day (Dth/d), with 86,500 Dth/d of this capacity used to replace volumes currently provided by Northern Natural Gas Company. ANR reports that 60,000 Dth/d would be made available to Wisconsin Power and Light Company to supply gas to fuel a new 600-megawatt power plant currently being constructed by Calpine Corporation in Beloit, Wisconsin.

The proposed project would install and/or replace the following facilities:

• Madison Lateral Loop: ANR's existing Madison Lateral easement contains two pipelines (a 10- and 12-inch-diameter pipeline). In the WestLeg Project, ANR would construct 26.3 miles of 30-inch-diameter loop within the existing easement. The Madison Lateral Loop would extend from McHenry County, Illinois, into Walworth and Rock Counties, Wisconsin.

• Beloit Lateral Replacement: ANR would abandon by removal two 6.5-mile-long, 4- and 6-inch-diameter laterals that parallel each other in Rock County. ANR would replace them with one new 20-inch-diameter lateral.

• ANR would also construct one new mainline valve on the Madison Lateral in Rock County; expand four existing valves on the Madison Lateral in McHenry, Walworth, and Rock Counties; expand one existing valve on the Beloit Lateral; construct one new meter station on the Beloit Lateral, and make minor modifications to two meter stations in Dane County, Wisconsin.

The EA has been placed in the public files of the FERC. A limited number of copies of the EA are available for distribution and public inspection at: Federal Energy Regulatory Commission, Public Reference and Files Maintenance Branch, 888 First Street NE., Room 2A, Washington, DC 20426, (202) 502-8371.

Copies of the EA have been mailed to Federal, state, and local agencies; public interest groups; interested individuals; newspapers; libraries; and parties to this proceeding.

Any person wishing to comment on the EA may do so. To ensure consideration prior to a Commission decision on the proposal, it is important that we receive your comments before the date specified below. Please follow these instructions carefully to ensure that your comments are received in time and properly recorded:

• Send an original and two copies of your comments to: Magalie R. Salas, Secretary, Federal Energy Regulatory Commission, 888 First Street NE., Room 1A, Washington, DC 20426;

• Label one copy of the comments for the attention of Gas Branch 1, PJ-11.1;

• Reference Docket No. CP02-434-000; and

• Mail your comments so that they will be received in Washington, DC on or before May 2, 2003.

Please note that we are continuing to experience delays in mail deliveries from the U.S. Postal Service. As a result, we will include all comments that we receive within a reasonable time frame in our environmental analysis of this project. However, the Commission strongly encourages electronic filing of any comments or interventions or protests to this proceeding. See 18 CFR 385.2001(a)(1)(iii) and the instructions on the Commission's Web site at http://www.ferc.gov under the “e-Filing” link and the link to the User's Guide. Before you can file comments you will need to create a free account which can be created by clicking on “Login to File” and then “New User Account.”

Comments will be considered by the Commission but will not serve to make the commentor a party to the proceeding. Any person seeking to be a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the project is available from the Commission's Office of External Affairs, at 1-866-208-FERC or on the FERC Internet Web site (http://www.ferc.gov) using the FERRIS link. Click on the FERRIS link, enter the docket number excluding the last three digits in the Docket Number field. Be sure you have selected an appropriate date range. For assistance, contact FERC Online Support at FERCOnlineSupport@ferc.gov or toll-free at (866) 208-3676, or for TTY, contact (202) 502-8659. The FERRIS link on the FERC Internet Web site also provides access to the texts of formal documents issued by the Commission, such as orders, notices, and rulemakings.

Magalie R. Salas,
Secretary.

[FR Doc. 03-8086 Filed 4-2-03; 8:45 am]

BILLING CODE 6717-01-P